DEPARTMENT OF THE INTERIOR

Bureau of Land Management

[LLWY910000 L16100000 XX0000]

Notice of Public Meeting; Wyoming Resource Advisory Council

AGENCY: Bureau of Land Management, Interior.

ACTION: Notice of public meeting.

SUMMARY: In accordance with the Federal Land Policy and Management Act of 1976 and the Federal Advisory Committee Act of 1972, the U.S. Department of the Interior, Bureau of Land Management (BLM) Wyoming Resource Advisory Council (RAC) will meet as indicated below.

DATES: The meeting will be held Wednesday, June 25, 2014 (1 to 5 p.m.), Thursday, June 26, 2014 (7:15 a.m. to 5 p.m.), and Friday, June 27, 2014 (8 a.m. to noon).

ADDRESSES: The meeting will be held at the Best Western Plus Fossil Country Inn and Suites (Best Western), 760 U.S. Highway 189, Kemmerer, Wyoming. The June 26 meeting will begin with a site visit that will leave from the Best Western.

FOR FURTHER INFORMATON CONTACT: Christian Venhuizen, Wyoming Resource Advisory Council Coordinator, Wyoming State Office, 5353 Yellowstone Road, Cheyenne, WY 82009; telephone 307-775-6103; email cvenhuizen@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This 10-member RAC advises the Secretary of the Interior on a variety of management issues associated with public land management in Wyoming.

Planned agenda topics include discussions on Greater Sage-Grouse habitats, wildfire fuels, proposals to improve public participation in meetings, and follow-up to previous RAC meetings.

On Wednesday, June 25, the meeting will begin at 1 p.m., at the Best Western conference room. On Thursday, June 26, there will be site visits of sage-grouse habitats, reclamation of Ruby Pipeline sites in portions of southwest Wyoming and fire sites. The public is invited to attend, but must provide their own transportation. The site visit will leave from the Best Western in Kemmerer, at 7:15 a.m. The meeting will resume at the Best Western conference room at 1:30 p.m. On Friday, June 27, the meeting will begin at 8 a.m. at the Best Western conference room.

All RAC meetings are open to the public with time allocated for hearing public comments. On Friday, June 27, there will be a public comment period beginning at 8 a.m. The public may also submit written comments to the RAC. Depending on the number of persons wishing to comment and time available, the time for individual oral comments may be limited. If there are no members of the public interested in speaking, the meeting will move promptly to the next agenda item.

Dated: May 9, 2014.
Donald A. Simpson,
State Director.

[FR Doc. 2014-11321 Filed 5-15-14; 8:45 am]

BILLING CODE 4310-22-P